DEPARTMENT OF VETERANS AFFAIRS

[OMB Control No. 2900-New (VR&E Survey)]

Agency Information Collection Activities (VR&E Employment of Individuals With Severe Injuries Study) Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before August 24, 2009.

ADDRESSES: Submit written comments on the collection of information through http://www.Regulations.gov; or to VA's OMB Desk Officer, OMB Human Resources and Housing Branch, New Executive Office Building, Room 10235, Washington, DC 20503 (202) 395-7316. Please refer to “OMB Control No. 2900-New (VR&E Survey)” in any correspondence.

FOR FURTHER INFORMATION OR A COPY OF THE SUBMISSION CONTACT: Denise McLamb, Enterprise Records Service (005R1B), Department of Veterans Affairs, 810 Vermont Avenue, NW., Washington, DC 20420, (202) 461-7485, FAX (202) 273-0443 or e-mail: denise.mclamb@mail.va.gov. Please refer to “OMB Control No. 2900-New (VR&E Survey).”

SUPPLEMENTARY INFORMATION:

Title: Vocational Rehabilitation and Employment (VR&E) Service Employment of Individuals with Severe Injuries Study.

OMB Control Number: 2900-New (VR&E Survey).

Type of Review: New collection.

Abstract: The mission of the VR&E program is to provide vocational rehabilitation services that will assist veterans to obtain and keep suitable employment consistent with their capabilities and interests or to achieve independence in their activities of daily living. The study will be used to determine whether the VR&E program is meeting the needs of severely disabled veterans and whether rehabilitation services are effective as they can be by identifying the factors that hinder and assist achieving long-term career employment for severely disabled veterans.

An agency may not conduct or sponsor, and a person is not required to respond to a collection of information unless it displays a currently valid OMB control number. The Federal Register Notice with a 60-day comment period soliciting comments on this collection of information was published on May 11, 2009, at pages 21854-21855.

Affected Public: Individuals or Households.

Estimated Annual Burden: 200 hours.

Estimated Average Burden per Respondent: 60 minutes.

Frequency of Response: One-time.

Estimated Number of Respondents: 200.

Dated: July 21, 2009.
By direction of the Secretary.
Denise McLamb,
Program Analyst, Enterprise Records Service.

[FR Doc. E9-17659 Filed 7-23-09; 8:45 am]

BILLING CODE 8320-01-P